DEPARTMENT OF HOUSING AND URBAN DEVELOPMENT

[Docket No. FR-7034-N-68]

30-Day Notice of Proposed Information Collection: Maintenance Wage Rate Recommendation, OMB Control No: 2501-0011

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: January 3, 2022.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Copies of available documents submitted to OMB may be obtained from Ms. Guido.

SUPPLEMENTARY INFORMATION: This notice informs the public that HUD is seeking approval from OMB for the information collection described in Section A.

The Federal Register notice that solicited public comment on the information collection for a period of 60 days was published on September 24, 2021 at 86 FR 53110.

A. Overview of Information Collection

Title of Information Collection: Maintenance Wage Rate Recommendation.

OMB Approval Number: 2501-0011.

Type of Request: Revision with change of a previously approved collection.

Form Number: HUD-4750, HUD-4751, HUD-4752.

Description of the need for the information and proposed use:

This is a revision of a currently approved collection. Agencies administering low income and affordable housing programs subject to maintenance prevailing wage rates use HUD Form 4750 to recommend maintenance wage rates to HUD and use HUD Forms 4751 and 4752 to collect data from local entities that employ personnel performing the same duties as the agency's maintenance staff. HUD uses the data collected from HUD Forms 4750, 4751, and 4752 to determine or adopt prevailing wage rates for maintenance laborers and mechanics employed in the operation of low income and affordable housing projects subject to Federal prevailing wage rates.

HUD and local agencies that administer HUD-assisted projects will no longer be required to use the HUD Form 4230A for additional classification requests. Instead, HUD and local agencies will utilize the form SF-1444 and submit employer additional classification and wage rate requests to DOL when DOL approval is required. The information collection of the SF-1444 is contained in the OMB Control No. 9000-0066.

Information collection | Number of respondents | Frequency of response | Responses per annum | Burden hours per response | Annual burden hours | Hourly cost per response | Total cost
HUD-4750 Maintenance Wage Recommendation | 1,381.00 | 1.00 | 1,381.00 | 2.00 | 2,762.00 | $42.01 | $116,031.62
HUD-4751 Maintenance Wage Rate Survey | 1,133.00 | 1.00 | 1,133.00 | 2.00 | 2,266.00 | 42.01 | 95,194.66
HUD-4752 Maintenance Wage Rate Survey—Summary Sheet | 1,133.00 | 1.00 | 1,133.00 | 4.00 | 4,532.00 | 42.01 | 190,389.32
Total | 3,647.00 |  | 3,647.00 | 8.00 | 9,560.00 | 42.01 | 401,615.60

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Anna P. Guido,
Department Reports Management Officer, Office of the Chief Information Officer.

[FR Doc. 2021-26301 Filed 12-2-21; 8:45 am]

BILLING CODE 4210-67-P